DEPARTMENT OF VETERANS AFFAIRS

[OMB Control No. 2900—NEW]

Agency Information Collection (Board of Veterans' Appeals, Veterans Information Office, Voice of the Veteran Call Center Survey) Activities Under OMB Review

AGENCY: Board of Veterans' Appeals, Department of Veterans Affairs.

ACTION: Notice.

SUMMARY: In compliance with the Paperwork Reduction Act (PRA) of 1995 (44 U.S.C. 3501-3521), this notice announces that the Board of Veterans' Appeals (BVA), Department of Veterans Affairs, will submit the collection of information abstracted below to the Office of Management and Budget (OMB) for review and comment. The PRA submission describes the nature of the information collection and its expected cost and burden and includes the actual data collection instrument.

DATES: Comments must be submitted on or before February 18, 2014.

ADDRESSES: Submit written comments on the collection of information through www.Regulations.gov or to Office of Information and Regulatory Affairs, Office of Management and Budget, Attn: VA Desk Officer; 725 17th St. NW., Washington, DC 20503 or sent through electronic mail to oira_submission@omb.eop.gov. Please refer to “OMB Control No. 2900-NEW (Board of Veterans' Appeals, Veterans Information Office, Voice of the Veteran Call Center Survey)” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-NEW (Board of Veterans' Appeals, Veterans Information Office, Voice of the Veteran Call Center Survey).”

SUPPLEMENTARY INFORMATION: Title: Board of Veterans' Appeals, Veterans Information Office, Voice of the Veteran Call Center Survey.

OMB Control Number: 2900-NEW, (Board of Veterans' Appeals, Veterans Information Office, Voice of the Veteran Call Center Survey).

Type of Review: New collection.

Abstract: Currently, the Board collects customer satisfaction on a very limited basis. Survey cards are distributed to the appellant if a hearing is conducted and the Board relies on respondents to mail in the postcard. The survey card only measures the appellant's satisfaction with the hearing process and response rates are low. The Board will benefit from obtaining direct feedback from its Veterans and appellants regarding their recent VIO Call Center experience. Specifically, the Veterans' feedback will provide the Board three key benefits: (1) Identify what is most important to its Veterans and appellants in determining their satisfaction with their VIO Call Center experience; (2) determine what to do to improve the call center experience; and (3) serve to guide training and/or operational activities aimed at enhancing the quality of service provide to its Veterans.

An agency may not conduct or sponsor, and a person is not required to respond to a collection of information unless it displays a currently valid OMB control number. The Federal Register Notice with a 60-day comment period soliciting comments on this collection of information was published on September 6, 2013, at pages 54957-54958.

Affected Public: Individuals or households.

Estimated Annual Burden: 500.

Estimated Average Burden per Respondent: 6 minutes.

Frequency of Response: Annually.

Estimated Number of Respondents: 5,000.

Dated: January 14, 2014.
By direction of the Secretary.
Crystal Rennie,
VA Clearance Officer, Department of Veterans Affairs.

[FR Doc. 2014-00896 Filed 1-16-14; 8:45 am]

BILLING CODE 8320-01-P